NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before November 10, 2003. Once the appraisal of the records is completed, NARA will send a copy of the schedule. NARA staff usually prepare appraisal memorandums that contain additional information concerning the records covered by a proposed schedule. These, too, may be requested and will be provided once the appraisal is completed. Requesters will be given 30 days to submit comments.

ADDRESSES: To request a copy of any records schedule identified in this notice, write to the Life Cycle Management Division (NWML), National Archives and Records Administration (NARA), 8601 Adelphi Road, College Park, MD 20740-6001. Requests also may be transmitted by FAX to 301-837-3698 or by e-mail to records.mgt@nara.gov. Requesters must cite the control number, which appears in parentheses after the name of the agency which submitted the schedule, and must provide a mailing address. Those who desire appraisal reports should so indicate in their request.

FOR FURTHER INFORMATION CONTACT: Paul M. Wester, Jr., Director, Life Cycle Management Division (NWML), National Archives and Records Administration, 8601 Adelphi Road, College Park, MD 20740-6001. Telephone: 301-837-3120. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of Agriculture, Farm Service Agency (N1-145-02-1, 4 items, 4 temporary items). General counsel files created by the Appeals and Litigation Group. Included are case files, agency copies of summaries and data used for reporting or tracking purposes, and electronic copies of records created using electronic mail and word processing.

2. Department Commerce, Bureau of the Census (N1-29-03-4, 8 items, 5 temporary items). Records of the Geography Division including duplicate electronic and paper copies of reference and thematic maps. Also included are cartographic records that contain no significant information that is not essentially reproduced in the final copy and electronic copies of records created using electronic mail and word processing. Proposed for permanent retention are recordkeeping copies of reference maps, thematic maps, and printed large sheet maps.

3. Department of Commerce, National Oceanic and Atmospheric Administration (N1-370-02-3, 32 items, 26 temporary items). Records of the National Marine Sanctuaries Program, including supporting materials associated with sanctuary designations, sanctuary management plan review and revision, environmental impact statements and environmental assessments, and damage assessment and restoration. Also included are such records as sanctuary permit applications and a related database, civil penalty case files, oil spill trusteeship and restoration files, sanctuary geographic information systems, a reference material database, and electronic copies of records created using electronic mail and word processing. Proposed for permanent retention (exclusive of supporting materials) are recordkeeping copies of sanctuary designation files, sanctuary management plan review and revision files, environmental impact statements and environmental assessments, and damage assessment and restoration files, sanctuary site evaluation records, and radioactive waste dump site files.

4. Department of Defense, National Imagery and Mapping Agency (N1-537-03-17, 2 items, 2 temporary items). Systems and equipment control files relating to printing and copying equipment. Also included are electronic copies of records created using electronic mail and word processing. This schedule authorizes the agency to apply the proposed disposition instructions to any recordkeeping medium.

5. Department of State, Under Secretary for Public Diplomacy and Public Affairs (N1-59-03-6, 11 items, 5 temporary items). Schedules of daily activities covering routine non-substantive matters, routine correspondence files, and reference files. Also included are electronic copies of records created using electronic mail and word processing. Recordkeeping copies of subject, chronological, speech, and meeting files are proposed for permanent retention.

6. Department of State, Bureau of Political-Military Affairs (N1-59-03-7, 1 item, 1 temporary item). Routine correspondence and inquiries received by the Office of Defense Trade Controls. Records do not relate to specific arms export cases.

7. Department of State, Secretariat Staff (N1-59-03-8, 2 items, 1 temporary item). Logs and registers of retired records, telegrams, and memorandums for the 1950s and 1960s. Lists of memorandums of conversation with high level Soviet officials and lists of high level correspondence are proposed for permanent retention.

8. Department of State, Office of the Legal Adviser (N1-59-03-9, 1 item, 1 temporary item). Standard Forms 95, Claim for Damage, Injury, or Death, accumulated in connection with claims stemming from the bombing of the U.S. embassy in Nairobi, Kenya.

9. Department of the Treasury, Departmental Offices (N1-56-03-10, 41 items, 29 temporary items). Records common to Departmental Offices. Included are such records as program, subject, and correspondence files maintained at or below the Deputy Assistant Secretary level, chronological reading files, copies of weekly reports submitted to high level officials, working papers and background materials relating to orders and directives, routine or informal publications, calendars and daily schedules, telephone logs, records that publicize activities not related to the agency's mission, and routine administrative records accumulated by committees and task forces. Also included are electronic copies of records created using electronic mail and word processing. Proposed for permanent retention are recordkeeping copies of such records as program, subject, and correspondences files maintained by an Under Secretary, Assistant Secretary, or the General Counsel, weekly reports to the Secretary submitted by an Under Secretary, Assistant Secretary, or the General Counsel, orders and directives, publications, studies, and reports, press releases, speeches made by high level officials, still pictures, sound and video recordings, posters, and minutes, agendas, and other official records of agency-sponsored committees and task forces.

10. Department of the Treasury, Office of Foreign Assets Control (N1-56-03-11, 4 items, 4 temporary items). Financial transaction files that document routine compliance actions and activities that do not require the creation of a project or case file. This schedule also reduces the retention period for one-time license authorities to release funds and inquiries requesting information on agency regulations, which were previously approved for disposal.

11. Environmental Protection Agency, Office of Prevention, Pesticides, and Toxic Substances (N1-412-01-12, 2 items, 2 temporary items). Certification statements and related correspondence pertaining to the importation of materials regulated under the Toxic Substances Control Act. Also included are electronic copies of records created using electronic mail and word processing.

12. General Services Administration, Public Buildings Service (N1-121-03-1, 3 items, 3 temporary items). Records relating to construction grants, including grant award documents, requests for the release of funds, balance sheets, and close out records. Also included are electronic copies of records created using electronic mail and word processing.

Dated: September 16, 2003.
Michael J. Kurtz,
Assistant Archivist for Record Services—Washington, DC.

[FR Doc. 03-24164 Filed 9-23-03; 8:45 am]

BILLING CODE 7515-01-P